DEPARTMENT OF DEFENSE

Department of the Army

Interim Change to the Military Freight Traffic Unified Rules Publication (MFTURP) No. 1

AGENCY: Department of the Army, DoD.

SUMMARY: The Military Surface Deployment and Distribution Command (SDDC) is providing notice that it is releasing the new version of the MFTURP No. 1, effective April 1, 2011.

ADDRESSES: Submit comments to Publication and Rules Manager, Strategic Business Directorate, Business Services, 1 Soldier Way, Building 1900W, Attn: SDDC-OPM, Scott AFB 62225. Request for additional information may be sent by e-mail to: chad.t.privett@us.army.mil or cory.dearolf@us.army.mil or george.alie@us.army.mil.

FOR FURTHER INFORMATION CONTACT: Mr. Chad Privett, (618) 220-6901, or Mr. Cory Dearolf, (618) 220-6959, or Mr. George Alie, (618) 220-5870.

SUPPLEMENTARY INFORMATION: Reference: Military Freight Traffic Unified Rules Publications (MFTURP) No. 1.

Background: The MFTURP No. 1 governs the purchase of surface freight transportation in the Continental United States (CONUS) by DoD using Federal Acquisition Regulation (FAR) exempt transportation service contracts.

Miscellaneous: This publication, as well as the other SDDC publications, can be accessed via the SDDC Web site at: http://sddcbiz.sddc.army.mil/Public/Global%20Cargo%20Distribution/Domestic/Publications?summary=fullcontent.

Larry L. Earick,
Chief, SDDC, G9, Business Services.

[FR Doc. 2011-7620 Filed 3-30-11; 8:45 am]

BILLING CODE 3710-08-P